OFFICE OF PERSONNEL MANAGEMENT

SES Performance Review Board

AGENCY: Office of Personnel Management.

ACTION: Notice.

SUMMARY: Notice is hereby given of the appointment of members of the OPM Performance Review Board.

FOR FURTHER INFORMATION CONTACT: Teresa Floyd, Center for Human Capital Management Services, Office of Personnel Management, 1900 E Street, NW., Washington, DC 20415, (202) 606-2309.

SUPPLEMENTARY INFORMATION: Section 4314(c) (1) through (5) of title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Kay Coles James,
Director.

The following have been designated as regular members of the Performance Review Board of the Office of Personnel Management:

Paul T. Conway, Chief of Staff—Chair.

Stephen C. Benowitz, Associate Director for Human Resources Products and Services.

Steven R. Cohen, Homeland Security Liaison Officer.

John C. Gartland, Director, Office of Congressional Relations.

Doris L. Hausser, Senior Policy Advisor to the Director and Chief Human Capital Officer.

Vicki A. Novak, Assistant Administrator for Human Resources and Education, National Aeronautics Space Administration.

Marta B. Perez, Associate Director for Human Capital Leadership and Merit System Accountability.

Patrick Pizzella, Assistant Secretary for Administration and Management/Chief Human Capital Officer, Department of Labor.

Mark A. Robbins, General Counsel.

[FR Doc. 04-24407 Filed 11-1-04; 8:45 am]

BILLING CODE 6325-45-P